POSTAL SERVICE

Privacy Act of 1974; System of Records

AGENCY: Postal Service®.

ACTION: Notice of establishment of new system of records; suspension of implementation date.

SUMMARY: The United States Postal Service® (Postal Service) is temporarily delaying the implementation date for establishing a new Customer Privacy Act System of Records (SOR) to support the Informed Delivery™ service. This delay will enable the Postal Service to review and evaluate public comments, and determine if substantive changes to the proposed system are advisable or necessary.

DATES: This system was previously scheduled to become effective on September 26, 2016. In view of comments received in advance of that date, the Postal Service has determined that it would be appropriate to delay the implementation of the SOR in its entirety while we consider what, if any, substantive changes may be required. If the Postal Service determines that certain portions of this SOR should be changed or eliminated, we will provide notice of that action, and publish a description of the revised SOR for further comment.

FOR FURTHER INFORMATION CONTACT: Janine Castorina, Chief Privacy Officer, Privacy and Records Office, United States Postal Service, 475 L'Enfant Plaza SW., Room 1P830, Washington, DC 20260-0004, telephone 202-268-3069, or privacy@usps.gov.

SUPPLEMENTARY INFORMATION: On August 25, 2016, the Postal Service published notice of its intent to establish a new system of records to support an expansion of its Informed Delivery™ service (81 FR 58542). (Informed Delivery™ is a digital service that allows enrolled users to receive an email notification that contains grayscale images of the outside of their letter-sized mailpieces processed by USPS automation equipment prior to delivery. This service is offered at no cost to the consumer.) In response to this notice, we received comments that generally supported the concept of the new SOR, but expressed desire for more specific information regarding the types of data to be collected by the system, and the potential uses (or abuses) of that information.

Stanley F. Mires,
Attorney, Federal Compliance.

[FR Doc. 2016-23756 Filed 9-30-16; 8:45 am]

BILLING CODE 7710-12-P